DEPARTMENT OF TRANSPORTATION

Federal Railroad Administration

Notice of Application for Approval of Discontinuance or Modification of a Railroad Signal System or Relief From the Requirements of Title 49 Code of Federal Regulations Part 236

Pursuant to Title 49 Code of Federal Regulations (CFR) Part 235 and 49 U.S.C. 20502(a), the following railroad has petitioned the Federal Railroad Administration (FRA) seeking approval for the discontinuance or modification of the signal system or relief from the requirements of 49 CFR part 236, as detailed below.

[Docket Number FRA-2010-0081]

Applicant: Mr. D. C. Francis, Canadian National—North America, System Senior Manager S&C Design/Standards, 17641 South Ashland Avenue, Homewood, Illinois 60430.

The Canadian National—North America (CN) seeks temporary relief from § 236.301, where signals shall be provided, relative to CN's EJ&E Griffith Connection project involving the Matteson Subdivision and the South Bend Subdivision. CN has planned construction of a connection at Griffith, Station Sign 36.2, on the Matteson Subdivision to route trains to and from Kirk Yard via the South Bend Subdivision. CN is seeking expedited temporary relief of § 236.301 to allow movements to and from Kirk Yard via the South Bend Subdivision using hand-throw switches within the interlocking on a proposed new connecting track until final construction is complete and the interlocking plant is fully in compliance. Upon completion, the hand-throw switches are to be replaced with power-operated switches. During the temporary installation of the connecting track, train operations will be governed as follows: A speed restriction of 20 mph on all routes over the hand-throw switches on the connecting track; switch circuit controllers on the connecting track, which will open the OST input to the appropriate microprocessor and put all signals to stop when one or both switches are greater than ¼″ from normal to full reverse; a temporary track circuit will be inserted to cover the trap circuit operation for the diamond on the Matteson Subdivision (North Side); fouling circuits will be effective on the new connection track; and derails will be installed on both ends of the new connecting track. A mandatory directive (GBO) will be issued covering the following: No signals will be given for trains routed over the new connecting track. All trains routed over the new connecting track will be talked by the appropriate Red signal governing movements into the interlocking. Highway-rail crossing starts on the Matteson Subdivision and South Bend Subdivision will be covered by Order.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning this proceeding should be identified by Docket Number FRA-2010-0081 and may be submitted by one of the following methods:

• Web site: http://www.regulations.gov. Follow the instructions for submitting comments on the DOT electronic site;

• Fax: 202-493-2251;

• Mail: Docket Management Facility, U.S. Department of Transportation, 1200 New Jersey Avenue, SE., West Building Ground Floor, Room W12-140, Washington, DC 20590; or

• Hand Delivery: Room W12-140 of the U.S. Department of Transportation West Building Ground Floor, 1200 New Jersey Avenue, SE., Washington, DC, between 9 a.m. and 5 p.m., Monday through Friday, except Federal holidays.

Communications received within 30 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

FRA wishes to inform all potential commenters that anyone is able to search the electronic form of all comments received into any of our dockets by the name of the individual submitting the comment (or signing the comment, if submitted on behalf of an association, business, labor union, etc.). You may review DOT's complete Privacy Act Statement in the Federal Register published on April 11, 2000 (65 FR 19477) or at http://www.dot.gov/privacy.html.

Issued in Washington, DC, on April 20, 2010.
Grady C. Cothen, Jr.,
Deputy Associate Administrator, for Safety Standards and Program Development.

[FR Doc. 2010-9631 Filed 4-23-10; 8:45 am]

BILLING CODE 4910-06-P